DEPARTMENT OF THE INTERIOR

Bureau of Land Management

[CA 670 1232 FH]

Notice of Proposed Supplementary Rules on Public Land in California

AGENCY: Bureau of Land Management, Interior.

ACTION: Supplementary rules for payment of special recreation permit fees immediately upon arrival at the Imperial Sand Dunes Recreation Area.

SUMMARY: The Bureau of Land Management (BLM)'s El Centro Field Office is proposing supplementary rules. These rules will apply to the public lands within the El Centro Resource Field Office, California Desert District, Imperial County, California. The supplementary rules require the payment of special recreation permit fees immediately upon arrival. Any primary vehicle while on public lands within the Planning Area Boundary or the recreation area must display a weekly or seasonal permit for the areas described above. The rules are needed in order to enhance the Imperial Sand Dunes Recreation Fee Program and to provide revenue for resource protection and for public health and safety.

DATES: You should submit your comments by December 22, 2003. In developing final rules, BLM may not consider comments postmarked or received in person or by electronic mail after this date.

ADDRESSES: Mail: Bureau of Land Management, El Centro Field Office, 1661 S. 4th St., El Centro, CA 92243.

Personal or messenger delivery: Bureau of Land Management, El Centro Field Office, 1661 S. 4th St., El Centro, CA 92243.

Internet e-mail: Neil_Hamada@ca.blm.gov.

FOR FURTHER INFORMATION CONTACT: Neil Hamada, Dunes Manager, Imperial Sand Dunes Recreation Area, Bureau of Land Management, El Centro Field Office, 1661 S. 4th St., El Centro, CA 92243 , (760) 337-4451.

SUPPLEMENTARY INFORMATION:

I. Public Comment Procedures.

II. Discussion of the Supplementary Rules.

III. Procedural Matters.

I. Public Comment Procedures

Electronic Access and Filing Address

You may view an electronic version of these proposed supplementary rules at BLM's Internet Home page: http://www.blm.gov. You may also comment via the Internet to (insert local comment Web site). Please also include “Attention: {insert RIN number}” and your name and return address in your Internet message. If you do not receive a confirmation from the system that we have received your Internet message, contact us directly at (phone number).

Written Comments

Written comments on the proposed supplementary rules should be specific, confined to issues pertinent to the proposed supplementary rules, and should explain the reason for any recommended change. Where possible, comments should reference the specific section or paragraph of the proposal you are addressing. BLM may not necessarily consider or include in the Administrative Record for the final supplementary rules comments BLM receives after the close of the comment period (see DATES) or comments delivered to an address other than those listed above (see ADDRESSES).

Comments, including names, streets addresses, and other contact information of respondents, will be available for public review at El Centro Field Office, 1661 S. 4th St., El Centro, CA 92243, during regular business hours (7:45 a.m. to 3:45 p.m.), Monday through Friday, except Federal holidays. Individual respondents may request confidentiality. If you wish to request that BLM consider withholding your name, street address, and other contact information (such as: Internet address, Fax or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Discussion of the Supplementary Rules

The El Centro Field Office is proposing supplementary rules for the Imperial Sand Dunes Recreation Area (ISDRA), as provided for in the Visitor Services regulations of the Bureau of Land Management (BLM). The supplementary rules would require the payment of special recreation permit fees immediately upon arrival. Any primary vehicle while on public lands within the Planning Area Boundary or the recreation area would be required to display a weekly or seasonal permit for the areas described below. The supplementary rules are not inconsistent with the preferred alternative in the Imperial Sand Dunes Recreation Area Management Plan. Special Recreation Permit fees were initially implemented in January 1999. Supplementary rules were published on December 17, 1998 (63 FR 69646), to establish those fees. The new supplementary rules only clarify the existing rules, and are intended to be appended to the 1998 supplementary rules. They are written only to clarify when the public pays their special recreation permit fee. The rules are consistent with the proposed Imperial Sand Dunes Recreation Area Management Plan (RAMP). The RAMP's objectives are to provide a safe and enjoyable experience to the public visiting the dunes and the BLM employees and volunteers maintaining the natural resources. The goals are to reduce or eliminate assaults, drug use, driving under the influence of drugs or alcohol, theft, and any unruly behavior that may lead to any of these, and to encourage users to obey all safety rules and regulations, so as to prevent accidents. The implementation of special recreation permit fees in the dunes will provide the resources necessary to meet these goals and objectives.

These supplementary rules will apply to the public lands within the area identified in the Imperial Sand Dunes Recreation Area Management Plan as the Planning Area Boundary, Mammoth Wash Management Area, North Algodones Dunes Wilderness Management Area, Gecko Management Area, Glamis Management Area, Adaptive Management Area, Ogilby Management Area, Dune Buggy Flats Management Area, and the Buttercup Management Area. BLM has determined these supplementary rules necessary to enhance the Imperial Sand Dunes Recreation Fee Program and to provide revenue for resource protection and for public health and safety.

III. Procedural Matters

Executive Order 12866, Regulatory Planning and Review

These supplementary rules are not a significant regulatory action and are not subject to review by Office of Management and Budget under Executive Order 12866. The supplementary rules will not have an effect of $100 million or more on the economy. They are not intended to affect commercial activity, but merely clarify when a fee that is already charged must be paid.

The supplementary rules will not adversely affect, in a material way, the economy, productivity, competition, jobs, the environment, public health or safety, or state, local, or tribal governments or communities. The proposed supplementary rules will not create a serious inconsistency or otherwise interfere with an action taken or planned by another agency. The supplementary rules will not alter the budgetary effects of entitlements, grants, user fees, or loan programs or the right or obligations of their recipients; nor will they raise novel legal or policy issues.

Clarity of the Supplementary Rules

Executive Order 12866 requires each agency to write regulations that are simple and easy to understand. We invite your comments on how to make the proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the supplementary rules be easier to understand if they were divided into more (but shorter) sections?

(5) Is the description of the proposed supplementary rules in the SUPPLEMENTARY INFORMATION section of this preamble helpful in understanding the proposed supplementary rules? How could this description be more helpful in making the supplementary rules easier to understand?

Please send any comments you have on the clarity of the supplementary rules to the address specified in the ADDRESSES section.

National Environmental Policy Act

BLM has determined that these proposed supplementary rules requiring the payment of special recreation permit fees immediately upon arrival at Imperial Sand Dunes Recreation Area and certain other locations are purely administrative in nature. Therefore, they are categorically excluded from environmental review under section 102(2)(C) of the National Environmental Policy Act, pursuant to 516 Departmental Manual (DM), Chapter 2, Appendix 1. In addition, the proposed rules do not meet any of the 10 criteria for exceptions to categorical exclusions listed in 516 DM, Chapter 2, Appendix 2. Pursuant to Council on Environmental Quality regulations (40 CFR 1508.4) and the environmental policies and procedures of the Department of the Interior, the term “categorical exclusions” means a category of actions that do not individually or cumulatively have a significant effect on the human environment, that have been found to have no such effect in procedures adopted by a Federal agency, and for which neither an environmental assessment nor an environmental impact statement is required.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The supplementary rule does not pertain specifically to commercial or governmental entities of any size, but to public recreational use of specific public lands. It merely makes clear when a fee that is already charged must be paid. Therefore, BLM has determined under the RFA that the proposed supplementary rules would not have a significant economic impact on a substantial number of small entities.

Small Business Regulatory Enforcement Fairness Act (SBREFA)

The supplementary rules do not constitute a “major rule” as defined at 5 U.S.C. 804(2). Again, the supplementary rules merely clarify when a fee that is already charged must be paid. The supplementary rules have no effect on business—commercial or industrial—use of the public lands.

Executive Order 12630, Governmental Actions and Interference With Constitutionally Protected Property Rights (Takings)

The proposed supplementary rules do not represent a government action capable of interfering with constitutionally protected property rights. They merely clarify when a fee that is already charged must be paid. Therefore, the Department of the Interior has determined that the proposed rules would not cause a taking of private property or require further discussion of takings implications under this Executive Order.

Executive Order 13132, Federalism

The proposed rules will not have a substantial direct effect on the States, on the relationship between the national government and the States, or on the distribution of power and responsibilities among the various levels of government. They merely clarify when a fee that is already charged must be paid. Therefore, in accordance with Executive Order 13132, BLM has determined that these proposed rules do not have sufficient Federalism implications to warrant preparation of a Federalism Assessment.

Executive Order 12988, Civil Justice Reform

Under Executive Order 12988, the Office of the Solicitor has determined that these proposed rules would not unduly burden the judicial system and that it meets the requirements of sections 3(a) and 3(b)(2) of the Order.

Executive Order 13175, Consultation and Coordination With Indian Tribal Governments [Replaces Executive Order 13084]

In accordance with Executive Order 13175, we have found that the final supplementary rules do not include policies that have tribal implications. They merely clarify when a fee that is already charged must be paid.

Paperwork Reduction Act

These supplementary rules do not contain information collection requirements that the Office of Management and Budget must approve under the Paperwork Reduction Act of 1995, 44 U.S.C. 3501 et seq.

Author

The principal author of the supplementary rules is Chief Area Ranger Robert Zimmer, Bureau of Land Management, El Centro Field Office.

Supplementary Rules for Payment of Special Recreation Permit Fees Immediately Upon Arrival at the Imperial Sand Dunes Recreation Area

Under 43 CFR 8365.1-6, the Bureau of Land Management will enforce the following supplementary rules on the public lands within the area identified as defined in the Imperial Sand Dunes Recreation Area Management Plan as the Planning Area Boundary, Mammoth Wash Management Area, North Algodones Dunes Wilderness Management Area, Gecko Management Area, Glamis Management Area, Adaptive Management Area, Ogilby Management Area, Dune Buggy Flats Management Area, and the Buttercup Management Area. These lands are within the Imperial Sand Dunes Special Recreation Management Area within the lands managed by the El Centro Field Office of the California Desert District, California. You must follow these rules:

Sec. 1 When must visitors pay the special recreation permit fees?

You must pay the special recreation permit fees immediately upon arrival.

Sec. 2 How must permits be displayed?

Any primary vehicle while on public lands within the Planning Area Boundary or the recreation area must display a weekly or seasonal permit for the areas described above.

Sec. 3 What are the penalties for violations of these rules?

Under section 303(a) of the Federal Land Policy and Management Act of 1976 (43 U.S.C. 1733(a)) and 43 CFR 8360.0-7 if you violate any of these supplementary rules on public lands within the boundaries established in the rules, you may be tried before a United States Magistrate and fined no more than $1,000 or imprisoned for no more than 12 months, or both. Such violations may also be subject to the enhanced fines provided for by 18 U.S.C. 3571.

Dated: October 7, 2003.
Mike Pool,
State Director.

[FR Doc. 03-28960 Filed 11-19-03; 8:45 am]

BILLING CODE 4310-40-P